NUCLEAR REGULATORY COMMISSION

Notice of Availability of Interim Staff Guidance Documents for Spent Fuel Storage and Transportation Casks

AGENCY: Nuclear Regulatory Commission.

ACTION: Notice of availability.

FOR FURTHER INFORMATION CONTACT: Robert Einziger, Sr., Materials Engineer, Structural, Mechanics, and Materials Branch, Division of Spent Fuel Storage and Transportation, Office of Nuclear Material Safety and Safeguards, U.S. Nuclear Regulatory Commission, Washington, DC 20005-0001. Telephone: (301) 415-2597; fax number: (301) 415-8555; e-mail: REE1@nrc.gov.

SUPPLEMENTARY INFORMATION:

I. Introduction

The Nuclear Regulatory Commission (NRC) prepares draft Interim Staff Guidance (ISG) documents for spent fuel storage or transportation casks or radioactive materials transportation package designs. These ISG documents provide clarifying guidance to the NRC staff when reviewing licensee integrated safety analyses, license applications or amendment requests or other related licensing. The NRC is soliciting public comments on Draft ISG-1 Rev 2, Damaged Fuel” which will be considered in the final version or subsequent revisions.

II. Summary

The purpose of this notice is to provide the public an opportunity to review and comment on the Draft Interim Staff Guidance-1 Revision 2 concerning the definition of damaged fuel. Draft Interim Staff Guidance-1, Revision 2, provides guidance to NRC staff on what documents should be reviewed and evaluated to ensure that damaged fuel is sufficiently defined to determine if it meets all regulatory functions. Additionally, the ISG provides a technical discussion on gross breaches, a methodology for defining damaged fuel in terms of its function, and a default definition based on the ANSI 14-33 standard.

III. Further Information

Documents related to this action are available electronically at the NRC's Electronic Reading Room at http://www.nrc.gov/reading-rm/doc-collections/isg/spent-fuel.html. From this site, you can access the NRC's Agencywide Documents Access and Management System (ADAMS), which provides text and image files of NRC's public documents. The ADAMS accession numbers for the documents related to this notice are provided in the following table. If you do not have access to ADAMS or if there are problems in accessing the documents located in ADAMS, contact the NRC Public Document Room (PDR) Reference staff at 1-800-397-4209, 301-415-4737, or by e-mail to pdr@nrc.gov.

Interim Staff Guidance | ADAMS Accession No.
Interim Staff Guidance-1 Revision 2 | ML063410468

These documents may also be viewed electronically on the public computers located at the NRC's PDR, O 1 F21, One White Flint North, 11555 Rockville Pike, Rockville, MD 20852. The PDR reproduction contractor will copy documents for a fee. Comments and questions on the draft SFPO ISG-1 Rev 2 should be directed to the NRC contact listed below by January 29, 2007. Comments received after this date will be considered if it is practical to do so, but assurance of consideration cannot be given to comments received after this date. Robert Einziger PhD, Sr., Materials Engineer, Structural, Mechanics, and Materials Branch, Division of Spent Fuel Storage and Transportation, Office of Nuclear Material Safety and Safeguards, U.S. Nuclear Regulatory Commission, Washington, DC 20005-0001. Comments can also be submitted on the form provided at the Web site, by fax, or e-mail, which are as follows: telephone: (301) 415-2597; fax number: (301) 415-8555; e-mail: REE1@nrc.gov. Submittals should be in either Word or WordPerfect; no PDF files.

Dated at Rockville, Maryland, this 7th day of December, 2006.
For the Nuclear Regulatory Commission.
Gordon Bjorkman,
Chief, Structural Mechanics, and Materials Branch Division of Spent Fuel Storage and Transportation Office of Nuclear Material Safety and Safeguards.

[FR Doc. E6-21153 Filed 12-12-06; 8:45 am]

BILLING CODE 7590-01-P